NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 29, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, National Oceanic and Atmospheric Administration (N1-370-07-5, 12 items, 9 temporary items). Records of the Hydrographic Surveys Division, including digital data working files used in preparation of bathymetric grids, wire drag supplements to smooth sheets, inputs and outputs for the Hydrographic Survey Index System, digital files and system outputs for the Hydrographic Survey Metadata Database, and digital files, inputs, and outputs for the Hydrographic Survey Tracker. Proposed for permanent retention are bathymetric grids, hydrographic descriptive reports and field examination reports in digital form, and digital files for the Hydrographic Survey Index System. The proposed disposition instructions are limited to paper records for some items and to electronic records for other items.

2. Department of Defense, Office of the Secretary of Defense (N1-330-08-7, 2 items, 1 temporary item). Master file associated with an electronic information system used to report sexual assault and prevention data. Data includes victim and perpetrator background information, actions taken, and final results. Proposed for permanent retention are annual reports on sexual assaults.

3. Department of Defense, Office of the Secretary of Defense (N1-330-08-8, 1 item, 1 temporary item). Master file associated with an electronic information system used to track human research protocol data. Data includes researcher and reviewer contact information, and protocol descriptions, reviews, approvals, and exemptions.

4. Department of Education, Office of Management (N1-441-08-4, 2 items, 2 temporary items). Records relating to civil rights cases docketed for hearing and resolution. Included are case files, motions, briefs, exhibits, transcripts of hearings, orders, decisions, and correspondence.

5. Department of Homeland Security, National Protection and Programs Directorate (N1-563-08-32, 1 item, 1 temporary item). Master file for an electronic information system of the Office of Emergency Communications, supporting interoperability of communications equipment between local, state and Federal first responders.

6. Department of the Interior, United States Geological Survey (N1-57-08-2, 41 items, 38 temporary items). Records associated with such administrative housekeeping functions as acquisition and supply; budgeting, financial management, and accounting; inventions, patents, and technology transfer; legal and congressional affairs; and information services. Included are information quality records, technology transfer agreements and supporting materials, financial management planning and project records, performance and accountability reports, and investigative case files. Proposed for permanent retention are biographical records for top-level officials, congressional hearing/briefing files, and the record set of budget justification and performance information books. The proposed disposition instructions are limited to paper records.

7. Department of Justice, Federal Bureau of Investigation (N1-65-08-6, 1 item, 1 temporary item). Unsuccessful employment applications dated prior to 1921, for which the General Records Schedule does not apply.

8. Department of Justice, Federal Bureau of Investigation (N1-65-08-10, 6 items, 4 temporary items). Administrative records, background material, and working papers of the Strategic Execution Team, which analyzes and improves the Bureau's performance of its national security mission. Proposed for permanent retention are the briefings, reports, minutes, presentations, communications, and recommendations of the Steering Committee.

9. Department of the Navy, United States Marine Corps (N1-NU-07-15, 3 items, 2 temporary items). Outputs of an electronic information system that gathers joint lessons learned. Proposed for permanent retention are the master files of the electronic information system. The proposed disposition instructions for the master files are limited to electronic records.

10. Environmental Protection Agency, Enforcement and Compliance Assurance (N1-412-08-11, 1 item, 1 temporary item). Electronic data maintained in the Integrated Data for Enforcement Analysis system, a data warehouse for which recordkeeping copies of individual systems are maintained and scheduled elsewhere.

11. National Aeronautics and Space Administration, Agency-wide (N-255-08-1, 3 items, 3 temporary items). This schedule authorizes the agency to apply the existing disposition instructions to records regardless of the recordkeeping medium. Included are calibration records of equipment used as inspection, measuring, or test equipment, reference copies, and metrology compliance documents. Paper recordkeeping copies of these records were previously approved for disposal.

12. Nuclear Regulatory Commission, Office of Nuclear Security and Incident Response (N1-431-08-1, 4 items, 2 temporary items). Subject files containing correspondence and other records that are routine or below the Office Director level and that relate to policy and procedures for security of nuclear reactors and materials. Proposed for permanent retention are subject files containing records at the Office Director level, and site-specific case files relating to security of nuclear reactors and materials.

13. Tennessee Valley Authority, Financial Services (N1-142-08-1, 5 items, 5 temporary items). Records relating to financial planning, annual government performance and accounting reports, external audits, and Chief Financial Officer committee meetings. Included are such records as annual plans, financial reports, audit reports of financial statements, and meeting minutes.

Dated: August 25, 2008.
Michael J. Kurtz,
Assistant Archivist for Records Services—Washington, DC.

[FR Doc. E8-20231 Filed 8-28-08; 8:45 am]

BILLING CODE 7515-01-P